COMMISSION ON CIVIL RIGHTS

Agenda and Notice of Public Meeting of the South Carolina Advisory Committee

Notice is hereby given, pursuant to the provisions of the rules and regulations of the U.S. Commission on Civil Rights (Commission) and the Federal Advisory Committee Act (FACA) that a meeting of the South Carolina Advisory Committee (Committee) to the Commission will convene at 10:00 a.m. and adjourn at approximately 11:30 a.m. on Wednesday, April 23, 2014. The meeting will be held at the Richland County Public Library, 1431 Assembly Street, Columbia, South Carolina 29201. The purpose of the meeting is for the Committee to plan its voting rights project.

Members of the public are entitled to submit written comments. Comments must be received in the regional office by May 23, 2014. Comments may be mailed to Peter Minarik at the Southern Regional Office, U.S. Commission on Civil Rights, 61 Forsyth St., SW., Suite 16T126, Atlanta, GA, 30303. They may also be faxed to the Committee at (404) 562-7005 or emailed to pminarik@usccr.gov. Persons who desire additional information may contact the Southern Regional Office at (404) 562-7000.

Hearing-impaired persons who will attend the meeting and require the services of a sign language interpreter should contact the Southern Regional Office at least ten (10) working days before the scheduled date of the meeting.

Records generated from this meeting may be inspected and reproduced at the Southern Regional Office, as they become available, both before and after the meeting. Persons interested in the work of this advisory committee are advised to go to the Commission's Web site, www.usccr.gov, or to contact the Southern Regional Office at the above email or street address.

The meeting will be conducted pursuant to the provisions of the rules and regulations of the Commission and FACA.

Dated April 1, 2014.
David Mussatt,
Acting Chief, Regional Programs Coordination Unit.

[FR Doc. 2014-07598 Filed 4-4-14; 8:45 am]

BILLING CODE 6335-01-P